ENVIRONMENTAL PROTECTION AGENCY

40 CFR Parts 60, 61, and 63

[EPA-HQ-OAR-2006-0640; FRL-8748-1]

RIN 2060-AJ86

Performance Specification and Quality Assurance Requirements for Continuous Parameter Monitoring Systems and Amendments to Standards of Performance for New Stationary Sources; National Emission Standards for Hazardous Air Pollutants; and National Emission Standards for Hazardous Air Pollutants for Source Categories

AGENCY: Environmental Protection Agency (EPA).

ACTION: Notice of extension of comment period.

SUMMARY: EPA is announcing that the comment period on the proposed rule for Performance Specification 17, “Specifications and Test Procedures for Continuous Parameter Monitoring Systems at Stationary Sources” and Procedure 4, “Quality Assurance Requirements for Continuous Parameter Monitoring Systems at Stationary Sources” published on October 9, 2008, is extended to February 5, 2009. This comment period extension also applies to the amendments proposed along with Performance Specification 17 and Procedure 4 for continuous parameter monitoring systems. EPA received requests for an extension to the comment period from the American Chemistry Council and the Coalition for Responsible Waste Incineration.

The reason given for the request for the extension was the need for additional time to review the proposed rules and assess their impact on subject sources. Since the additional time is expected to afford commenters the ability to prepare and submit more comprehensive and detailed comments, EPA finds the requests for an extension of the comment period reasonable.

One commenter also requested a 60-day extension to the deadline for requesting a public hearing on the proposed rule. No specific, compelling reason was provided for granting this request; therefore EPA finds the request for extending the deadline for requesting a public hearing on the proposal not reasonable.

DATES: Comments: Comments on the proposed rule must be received on or before February 5, 2009.

ADDRESSES: Submit your comments, identified by Docket ID No. EPA-HQ-OAR-2006-0640, by one of the following methods:

• www.regulations.gov: Follow the on-line instructions for submitting comments.

• E-mail: a-and-r-Docket@epa.gov, Attention Docket ID No. EPA-HQ-OAR-2006-0640.

• Fax: (202) 566-9744, Attention Docket ID No. EPA-HQ-OAR-2006-0640.

• Mail: Air and Radiation Docket and Information Center, Environmental Protection Agency, Mailcode: 6102T, 1200 Pennsylvania Ave., NW., Washington, DC 20460, Attention Docket ID No. EPA-HQ-OAR-2006-0640. Please include a total of two copies.

• Hand Delivery or Courier: EPA Docket Center (6102T), 1301 Constitution Avenue, NW., Room 3334, Washington, DC 20460, Attention Docket ID No. EPA-HQ-OAR-2006-0640. Such deliveries are only accepted during the Docket's normal hours of operation, and special arrangements should be made for deliveries of boxed information. Please include a total of two copies.

Instructions: Direct your comments to Docket ID No. EPA-HQ-OAR-2006-0640. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet.

If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the EPA Docket Center, Performance Specification 17 and Procedure 4 for Continuous Parameter Monitoring Systems Docket, EPA West, Room 3334, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Mr. Barrett Parker, Sector Policies and Programs Division, Office of Air Quality Planning and Standards (D243-05), Environmental Protection Agency, Research Triangle Park, North Carolina 27711, telephone number: (919) 541-5635; e-mail address: parker.barrett@epa.gov.

SUPPLEMENTARY INFORMATION:

A. Does this action apply to me?

To determine whether your facility, company, business, organization, etc., is potentially affected by this action, you should examine the proposed rule published on October 9, 2008 (73 FR 59956). If you have any questions regarding the applicability of this action to a particular entity, consult either the air permit authority for the entity or your EPA regional representative.

B. What should I consider as I prepare my comments to EPA?

Do not submit information containing CBI to EPA through www.regulations.gov or e-mail. Send or deliver information identified as CBI only to the following address: Roberto Morales, OAQPS Document Control Officer (C404-02), Office of Air Quality Planning and Standards, Environmental Protection Agency, Research Triangle Park, NC 27711, Attention Docket ID No. EPA-HQ-OAR-2006-0640. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

C. Where can I get a copy of this document?

In addition to being available in the docket, an electronic copy of this notice is available on the Worldwide Web (WWW) through the Technology Transfer Network (TTN). Following signature, a copy of this action will be posted on the TTN's policy and guidance page for newly proposed or promulgated rules at http://www.epa.gov/ttn/oarpg. The TTN provides information and technology exchange in various areas of air pollution control.

Dated: November 26, 2008.
Robert J. Meyers,
Principal Deputy Assistant Administrator for Air and Radiation.

[FR Doc. E8-28677 Filed 12-2-08; 8:45 am]

BILLING CODE 6560-50-P